DEPARTMENT OF JUSTICE

[AAG/A Order No. 005-2007]

Privacy Act of 1974; System of Records

AGENCY: United States Marshals Service, DOJ.

ACTION: Modified System of Records.

SUMMARY: Pursuant to the provisions of the Privacy Act of 1974, 5 U.S.C. 552a, notice is given that the Department of Justices (DOJ) proposes to modify a United States Marshals Service (USMS) system of records entitled “Warrant Information Network (WIN), USM-007.”

Changes have been made to the “Categories of Individuals Covered by the System” to include individuals suspected in a state's case that has been adopted by a USMS-sponsored task force; individuals for whom the USMS is conducting a criminal investigation or aiding in a criminal investigation by another law enforcement agency; missing persons, including children, for whom the USMS is conducting an investigation or aiding in a criminal investigation by another law enforcement agency; individuals, and their associates, who are the subject of, and who may provide information, assistance or leads in USMS fugitive, criminal, or missing persons investigations. Other changes are made consistent with the new categories of individuals covered, necessary updates are made, and routine uses have been revised to conform with DOJ model routine use language.

DATES: In accordance with the requirements of 5 U.S.C. 552a (e)(4) and (11), the public is given a 30 day period in which to comment. The Office of Management and Budget (OMB), which has oversight responsibility under the Act, has 40 days in which to conclude its review of the system. Therefore, please submit any comments by April 16, 2007

ADDRESSES: The public, OMB and the Congress are invited to submit any comments to Mary E. Cahill, Management and Planning Staff, Justice Management Division, Department of Justice, Washington, DC 20530 (Room 1400 National Place Building), Facsimile Number 202-307-1853.

FOR FURTHER INFORMATION CONTACT: Ed Bordley on 202-307-8571.

SUPPLEMENTARY INFORMATION: The notice for USM-007 was last published on November 8, 1999 at 64 FR 60832, 39.

In accordance with 5 U.S.C. 552a (r), the Department has provided a report to OMB and appropriate members of Congress.

Dated: February 22, 2007.
Lee J. Lofthus,
Assistant Attorney General for Administration.

JUSTICE/USM-007

System name:

Warrant Information Network (WIN).

Security classification:

Limited Official Use.

System location:

Primary System: Investigative Services Division, U.S. Marshals Service (USMS), CS-4, Washington, DC 20530-1000.

Decentralized Segments: Each district office of the USMS maintains their own files. The addresses of USMS district offices are available on the Internet at http://www.usdoj.gov/marshals/usmsofc.html.

Categories of individuals covered by the system:

Individuals for whom federal warrants have been issued; individuals for whom State or local warrants have been issued when the warrant is part of a USMS sponsored multi-agency task force; individuals suspected in a state's case that has been adopted by a USMS-sponsored task force; individuals for whom the USMS is conducting a criminal investigation or aiding in a criminal investigation by another law enforcement agency; missing persons, including children, for whom the USMS is conducting an investigation or aiding in a criminal investigation by another law enforcement agency; individuals, and their associates, who are the subject of, and who may provide information, assistance or leads in USMS fugitive, criminal, or missing persons investigations.

Categories of records in the system:

Computerized records in this system consist of information pertaining to a warrant such as dates, issuing federal district, nature of the offense, investigative notes, information related to subjects, including biographical data, physical description, and criminal history, and a subject's association with other individuals, dangerous gangs, extremist groups, or other organizations; information concerning criminal and/or missing persons investigations, such as the evidence collected in support of criminal and/or missing persons investigations, the nature of the crime, investigative reports, investigative notes, biographical data relating to the investigation's subject and the subject's associates. Information on associates includes physical description, photographs, numerical identifiers, addresses, driver's license information and investigative information furnished by other federal, state or local law enforcement or other government agencies and non-government sources. In addition to the abbreviated data described above, the complete file contains the warrant and other court records and internal correspondence relating to the warrant; photographs; wanted flyers/posters; and investigative reports reflecting patterns of activity, leads, witnesses' and other persons' statements. Investigative reports and criminal record information from other federal, state, local, and foreign law enforcement agencies participating in or cooperating with USMS fugitive, criminal, or missing person investigations and apprehension efforts are also included in this system.

Authority for maintenance of the system:

28 U.S.C. 509, 510, and 561 et seq.; 28 CFR 0.111(a) and (q).

Purpose(s):

The USMS is responsible for ensuring the judicial system's effective operation through the execution of federal arrest warrants, parole violator warrants, federal custodial and extradition warrants, and by investigating fugitive, criminal, and missing person matters. The WIN system facilitates the efficient management and administration of warrant executions and USMS fugitive, criminal and missing person investigations through the collection, flow, analysis, dissemination and maintenance of records and information necessary to accomplish these missions.

Routine uses of records maintained in the system, including categories of users and the purposes of such uses:

Records or information may be disclosed:

(a) To public and private organizations, individuals, and federal, state, territorial, local and foreign agencies to the extent necessary to obtain information or cooperation in USMS investigations and apprehension efforts;

(b) To any criminal, civil, or regulatory law enforcement authority (whether federal, state, territorial, local, tribal, or foreign) where the information is relevant to the recipient entity's law enforcement responsibilities;

(c) To contractors, grantees, experts, consultants, students, and others performing or working on a contract, service, grant, cooperative agreement, or other assignment for the Federal Government, when necessary to accomplish an agency function related to this system of records;

(d) In an appropriate proceeding before a court, or administrative or adjudicative body, when the Department of Justice determines that the records are arguably relevant to the proceeding; or in an appropriate proceeding before an administrative or adjudicative body when the adjudicator determines the records to be relevant to the proceeding;

(e) To the news media and the public, including disclosures pursuant to 28 CFR 50.2, unless it is determined that release of the specific information in the context of a particular case would constitute an unwarranted invasion of personal privacy;

(f) To a Member of Congress or staff acting upon the Member's behalf when the Member or staff requests the information on behalf of, and at the request of, the individual who is the subject of the record;

(g) To the National Archives and Records Administration for purposes of records management inspections conducted under the authority of 44 U.S.C. 2904 and 2906;

(h) To an actual or potential party to litigation or the party's authorized representative for the purpose of negotiation or discussion of such matters as settlement, plea bargaining, or in informal discovery proceedings;

(i) To federal, state, territorial, local, tribal, foreign, or international licensing agencies or associations which require information concerning the suitability or eligibility of an individual for a license or permit;

(j) A record may be disclosed to designated officers and employees of state, territorial, local (including the District of Columbia), or tribal law enforcement or detention agencies in connection with the hiring or continued employment of an employee or contractor, where the employee or contractor would occupy or occupies a position of public trust as a law enforcement officer or detention officer having direct contact with the public or with prisoners or detainees, to the extent that the information is relevant and necessary to the recipient agency's decision;

(k) To a former employee of the Department for purposes of: Responding to an official inquiry by a federal, state, or local government entity or professional licensing authority, in accordance with applicable Department regulations; or facilitating communications with a former employee that may be necessary for personnel-related or other official purposes where the Department requires information and/or consultation assistance from the former employee regarding a matter within that person's former area of responsibility.

(l) To appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

Disclosure to Consumer Reporting Agencies: Not Applicable.

Policies and practices for storing, retrieving, accessing, retaining, and disposing of records in the system:

Storage:

Records are stored in standard file folders. Duplicate copies of paper records are stored on magnetic discs.

Retrievability:

Records are retrieved by individual names or identifying numbers.

Safeguards:

Except as otherwise noted in paragraph (b) under “Routine uses,” access is restricted to personnel in the Investigative Services Division and in each USMS district office. Access to computerized records is safeguarded by user identification and password restrictions. Paper records are maintained in filing cabinets within supervised areas of the U.S. Marshals' offices. District and headquarters offices are locked during working and non-duty hours and entry is restricted to employees with official identification.

Retention and disposal:

Records are kept in an operating file until warrant is executed and then transferred to a closed file. Closed files are retained for one year after file is closed, then transferred to the Federal Records Center and destroyed after 55 years. Computerized records are retained indefinitely as an operating file or as a closed case file.

System manager(s) and address:

Assistant Director, Investigative Services Division, U.S. Marshals Service, CS-4, Washington, DC 20530-1000.

Notification procedure:

Same as “Record access procedures.”

Record access procedures:

Make all requests for access in writing and clearly mark the letter and envelope “Freedom of Information/Privacy Act Request.” Clearly indicate the name of the requester, nature of the record sought, approximate date of the record, and provide the required verification of identity (28 CFR 16.41(d)). Direct all requests to the system manager identified above, Attention: FOI/PA Officer, and provide a return address for transmitting the information.

Contesting record procedures:

Direct all requests to contest or amend information to the system manager identified above. State clearly and concisely the information being contested, the reason for contesting it, and the proposed amendment to the information sought. Clearly mark the envelope “Freedom of Information/Privacy Act Request.”

Record source categories:

Information is obtained from the courts, federal, state, local and foreign law enforcement agencies, public and private organizations, commercial information resellers, witnesses, informants, and other persons interviewed during the course of the fugitive, criminal, or missing person investigations.

Exemptions claimed for the system:

The Attorney General has exempted this system from subsections (c)(3) and (4), (d), (e)(1), (2) and (3), (e)(4)(G) and (H), (e)(5), (e)(8), (f) and (g) of the Privacy Act pursuant to 5 U.S.C. 552a(j)(2). Rules have been promulgated in accordance with the requirements of 5 U.S.C. 553(b), (c), and (e) and have been published in the Federal Register. See 28 CFR 16.101.

[FR Doc. E7-3757 Filed 3-2-07; 8:45 am]

BILLING CODE 4410-04-P